DEPARTMENT OF COMMERCE

International Trade Administration

Announcement of Changes to the Membership of the Performance Review Board

AGENCY: International Trade Administration, Department of Commerce.

ACTION: Notice of Performance Review Board Membership.

SUMMARY: The regulations at 5 CFR 430.310 require agencies to publish notice of Performance Review Board appointees in the Federal Register before their service begins. In accordance with those regulations, this notice announces changes to the membership of the International Trade Administration's Performance Review Board.

DATES: Effective Date: The changes made to the Performance Review Board are effective September 20, 2013.

FOR FURTHER INFORMATION CONTACT: Ruthie B. Stewart, U.S. Department of Commerce, Office of Human Resources Management (OHRM), Office of Executive Resources, 14th and Constitution Avenue NW., Room 51010, Washington, DC 20230, at (202) 482-3130.

SUPPLEMENTARY INFORMATION: The International Trade Administration (ITA) published its list of Performance Review Board appointees pursuant to the regulations at 5 CFR 430.310 (74 FR 51261). The purpose of the Performance Review Board is to review and make recommendations to the appointing authority on performance management issues such as appraisals, bonuses, pay level increases, and Presidential Rank Awards for members of the Senior Executive Service. The appointment of these members to the Performance Review Board will be for a period of twenty-four (24) months.

ITA publishes this notice to announce changes to the Performance Review Board's membership. The name, position title, and type of appointment of each member of ITA's Performance Review Board are set forth below by organization:

Department of Commerce, International Trade Administration (ITA)

John M. Andersen, Deputy Assistant Secretary for Market Access and Compliance, Career SES, serves as Chairperson

Kenneth Berman, Deputy Chief Information Officer, Career SES, new member

Kimberly Thompson Glas, Deputy Assistant Secretary for Textiles and Apparel, Non-Career SES, Political Advisor, new member

Carole Ann Showers, Director, Office of Policy, career, new member

Holly K. Vineyard, Deputy Assistant Secretary for Africa, the Middle East, and South Asia, Career SES, new member

Department of Commerce, Office of the Secretary (OS)

Lisa A. Casias, Director for Financial Management and Deputy Chief Financial Officer, Career SES, new member

Dated: November 6, 2013.
Debbie Pfaff,
Director, Office of Staffing, Recruitment and Classification, Department of Commerce Human Resources Operations Center.

[FR Doc. 2013-27078 Filed 11-12-13; 8:45 am]

BILLING CODE 3510-DS-P